FEDERAL HOUSING FINANCE BOARD

[No. 2007-N-05]

Federal Home Loan Bank Members Selected for Community Support Review

AGENCY: Federal Housing Finance Board.

ACTION: Notice.

SUMMARY: The Federal Housing Finance Board (Finance Board) is announcing the Federal Home Loan Bank (Bank) members it has selected for the 2006-07 fifth quarter review cycle under the Finance Board's community support requirements regulation. This notice also prescribes the deadline by which Bank members selected for review must submit Community Support Statements to the Finance Board.

DATES: Bank members selected for the review cycle under the Finance Board's community support requirements regulation must submit completed Community Support Statements to the Finance Board on or before May 25, 2007.

ADDRESSES: Bank members selected for the 2006-07 fifth quarter review cycle under the Finance Board's community support requirements regulation must submit completed Community Support Statements to the Finance Board either by regular mail at the Federal Housing Finance Board, Office of Supervision, Community Investment and Affordable Housing, 1625 Eye Street, NW., Washington, DC 20006, or by electronic mail at fitzgeralde@fhfb.gov.

FOR FURTHER INFORMATION CONTACT: Emma J. Fitzgerald, Program Analyst, Office of Supervision, Community Investment and Affordable Housing, by telephone at 202/408-2874, by electronic mail at fitzgeralde@fhfb.gov, or by regular mail at the Federal Housing Finance Board, 1625 Eye Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the May 25, 2007 deadline prescribed in this notice. 12 CFR 944.2(b)(1)(ii) and (c). On or before April 27, 2007, each Bank will notify the members in its district that have been selected for the 2006-07 fifth quarter community support review cycle that they must complete and submit to the Finance Board by the deadline a Community Support Statement. 12 CFR 944.2(b)(2)(i). The member's Bank will provide a blank Community Support Statement Form, which also is available on the Finance Board's Web site: http://www.fhfb.gov. Upon request, the member's Bank also will provide assistance in completing the Community Support Statement.

The Finance Board has selected the following members for the 2006-07 fifth quarter community support review cycle:

Federal Home Loan Bank of Boston—District 1
People's Bank | Bridgeport, CT
Farmington Savings Bank | Farmington, CT
Liberty Bank | Middletown, CT
Naugatuck Savings Bank | Naugatuck, CT
Citizens National Bank | Putnam, CT
The Simsbury Bank and Trust Company, Inc | Simsbury, CT
Windsor Federal Savings and Loan Association | Windsor, CT
Down East Federal Credit Union | Baileyville, ME
PeoplesChoice Credit Union | Biddeford, ME
Ocean Communities Federal Credit Union | Biddeford, ME
The First, N.A | Damariscotta, ME
Gardiner Savings Institution, FSB | Gardiner, ME
Machias Savings Bank | Machias, ME
Katahdin Federal Credit Union | Millinocket, ME
Hanscom Federal Credit Union | Bedford, MA
University Credit Union | Boston, MA
Tremont Credit Union | Boston, MA
HarborOne Credit Union | Brockton, MA
Dedham Co-operative Bank | Dedham, MA
Everett Credit Union | Everett, MA
Workers' Credit Union | Fitchburg, MA
Framingham Co-operative Bank | Framingham, MA
Dean Co-operative Bank | Franklin, MA
Benjamin Franklin Bank | Franklin, MA
Greenfield Savings Bank | Greenfield, MA
UMassFive College Federal Credit Union | Hadley, MA
Economy Co-operative Bank | Merrimac, MA
Mayflower Co-operative Bank | Middleboro, MA
Millbury Federal Credit Union | Millbury, MA
First Citizens' Federal Credit Union | New Bedford, MA
North Shore Bank, A Co-Operative Bank | Peabody, MA
Berkshire Bank | Pittsfield, MA
The Pittsfield Cooperative Bank | Pittsfield, MA
Sharon Co-operative Bank | Sharon, MA
Slade's Ferry Trust Company | Somerset, MA
Central Bank | Somerville, MA
Savers Co-operative Bank | Southbridge, MA
StonehamBank—A Co-operative Bank | Stoneham, MA
The Martha's Vineyard Co-op Bank of Tisbury | Tisbury, MA
Ware Co-operative Bank | Ware, MA
United Bank | West Springfield, MA
Westfield Bank | Westfield, MA
Winthrop Federal Credit Union | Winthrop, MA
Connecticut River Bank N.A | Charlestown, NH
Claremont Savings Bank | Claremont, NH
Triangle Credit Union | Nashua, NH
Sugar River Savings Bank | Newport, NH
Lake Sunapee Bank, fsb | Newport, NH
Service Credit Union | Portsmouth, NH
Piscataqua Savings Bank | Portsmouth, NH
The Washington Trust Company | Westerly, RI
The Bank of Bennington | Bennington, VT
Factory Point National Bank | Manchester Center, VT
Heritage Family Credit Union | Rutland, VT
Passumpsic Savings Bank | St. Johnsbury, VT
Federal Home Loan Bank of New York—District 2
American Savings Bank of NJ | Bloomfield, NJ
Clifton Savings Bank, S.L.A | Clifton, NJ
Sussex Bank | Franklin, NJ
First Hope Bank, NA | Hope, NJ
Magyar Bank | New Brunswick, NJ
Lusitania Savings Bank | Newark, NJ
Roebling Bank | Roebling, NJ
Monroe Savings Bank, SLA | Williamstown, NJ
Franklin Savings Bank | Woodstown, NJ
Ponce De Leon Federal Bank | Bronx, NY
Fulton Savings Bank | Fulton, NY
Astoria Federal Savings & Loan Association | Lake Success, NY
Pittsford Federal Credit Union | Mendon, NY
First Federal Savings of Middletown | Middletown, NY
Amalgamated Bank, | New York, NY
United Orient Bank | New York, NY
The Bank of Castile | Perry, NY
Northfield Savings Bank | Staten Island, NY
Federal Home Loan Bank of Pittsburgh—
District 3
Wilmington Savings Fund Society, FSB | Wilmington, DE
C & G Savings Bank | Altoona, PA
Ambler Savings Bank | Ambler, PA
First Star Savings Bank | Bethlehem, PA
First FS&LA of Bucks County | Bristol, PA
Alliance Bank | Broomall, PA
Sharon Savings Bank | Darby, PA
ESB Bank | Ellwood City, PA
County Savings Bank | Essington, PA
Bank of Hanover and Trust Company | Hanover, PA
Hatboro Federal Savings | Hatboro, PA
Fox Chase Bank | Hatboro, PA
William Penn Bank, FSB | Levittown, PA
Willow Financial | Maple Glen, PA
First Keystone Bank | Media, PA
Morton Savings Bank | Morton, PA
Nesquehoning Savings Bank | Nesquehoning, PA
Third Federal Bank | Newtown, PA
Malvern Federal Savings Bank | Paoli, PA
First Savings Bank of Perkasie | Perkasie, PA
Asian Bank | Philadelphia, PA
Washington Savings Association | Philadelphia, PA
Second FS&LA of Philadelphia | Philadelphia, PA
Pennsylvania Business Bank | Philadelphia, PA
Progressive Home FS&LA | Pittsburgh, PA
The Quakertown National Bank | Quakertown, PA
Mercer County State Bank | Sandy Lake, PA
Penn Security Bank and Trust Company | Scranton, PA
North Penn Bank | Scranton, PA
Slovenian S&LA of Canonsburg, Pa | Strabane, PA
First National Bank of Chester County | West Chester, PA
Stonebridge Bank | West Chester, PA
First Century Bank, N.A. | Bluefield, WV
Pioneer Community Bank | Iaeger, WV
Bank of Mount Hope, Inc. | Mount Hope, WV
Community Bank of Parkersburg | Parkersburg, WV
First Neighborhood Bank | Spencer, WV
Pleasants County Bank | St. Marys, WV
Poca Valley Bank | Walton, WV
Federal Home Loan Bank of Atlanta—District 4
Covington County Bank | Andalusia, AL
United Bank | Atmore, AL
Cullman Savings Bank | Cullman, AL
Peoples Bank of North Alabama | Cullman, AL
First American Bank | Decatur, AL
The Citizens Bank | Enterprise, AL
BankTrust of Alabama | Eufala, AL
EvaBank | Eva, AL
New South Federal Savings Bank | Irondale, AL
Merchants Bank | Jackson, AL
Farmers and Merchants Bank | Lafayette, AL
Southwest Bank of Alabama | McIntosh, AL
BankTrust | Mobile, AL
Community Spirit Bank | Red Bay, AL
Valley State Bank | Russellville, AL
The Peoples Bank and Trust Company | Selma, AL
Sweet Water State Bank | Sweet Water, AL
SouthFirst Bank | Sylacauga, AL
The First National Bank of Talladega | Talladega, AL
First United Security Bank | Thomasville, AL
City First Bank of DC, N.A | Washington, DC
Citrus and Chemical Bank | Bartow, FL
Mackinac Savings Bank, FSB | Boynton Beach, FL
First Bank of Clewiston | Clewiston, FL
Olde Cypress Community Bank | Clewiston, FL
First National Bank of Crestview | Crestview, FL
Regent Bank | Davie, FL
Dunnellon State Bank | Dunnellon, FL
Landmark Bank, N.A | Fort Lauderdale, FL
Old Florida Bank | Fort Myers, FL
First City Bank of Florida | Fort Walton Beach, FL
Desjardins Bank, National Association | Hallandale Beach, FL
Florida Community Bank | Immokalee, FL
The Bank of Inverness | Inverness, FL
Monticello Bank | Jacksonville, FL
Community First Credit Union of Florida | Jacksonville, FL
First Guaranty Bank and Trust Company | Jacksonville, FL
Publix Employees Federal Credit Union | Lakeland, FL
First Federal Savings Bank of Florida | Live Oak, FL
Helm Bank | Miami, FL
Commercial Bank of Florida | Miami, FL
Eastern National Bank | Miami, FL
American National Bank | Oakland Park, FL
CNL Bank | Orlando, FL
Peoples First Community Bank | Panama City, FL
Tropical Financial Credit Union | Pembroke Pines, FL
Century Bank, a Federal Savings Bank | Sarasota, FL
Highlands Independent Bank | Sebring, FL
Eastern Financial Florida Credit Union | South Florida, FL
Raymond James Bank, FSB | St. Petersburg, FL
United Southern Bank | Umatilla, FL
Marine Bank and Trust | Vero Beach, FL
Sterling Bank | West Palm Beach, FL
Montgomery Bank & Trust | Ailey, GA
Citizens Trust Bank | Atlanta, GA
First Bank of Georgia | Augusta, GA
United Community Bank | Blairsville, GA
First National Bank of Georgia | Buchanan, GA
Bank of Chickamauga | Chickamauga, GA
The Peoples Bank | Eatonton, GA
Pinnacle Bank | Elberton, GA
Gainesville Bank and Trust | Gainesville, GA
First Citizens Bank | Glennville, GA
South Georgia Bank | Glennville, GA
SunMark Community Bank | Hawkinsville, GA
Community Trust Bank | Hiram, GA
Northeast Georgia Bank | Lavonia, GA
Peoples Bank | Lithonia, GA
The Community Bank | Loganville, GA
Family Bank | Pelham, GA
The Citizens National Bank of Quitman | Quitman, GA
Wilcox County State Bank | Rochelle, GA
Citizens First Bank | Rome, GA
Farmers and Merchants Community Bank | Senoia, GA
Quantum National Bank | Suwanee, GA
Citizens Bank & Trust | Trenton, GA
Farmers and Merchants Bank | Washington, GA
First Piedmont Bank | Winder, GA
Vigilant Federal Savings Bank | Baltimore, MD
Hull Federal Savings Bank | Baltimore, MD
Ideal Federal Savings Bank | Baltimore, MD
State Employees Credit Union | Baltimore, MD
Bay-Vanguard Federal Savings Bank | Baltimore, MD
TMB Federal Credit Union | Cabin John, MD
Cecil Bank | Elkton, MD
County National Bank | Glen Burnie, MD
Susquehanna Bank | Hagerstown, MD
FedChoice Federal Credit Union | Lanham, MD
North Arundel Savings Bank, FSB | Pasadena, MD
Provident State Bank, Inc | Preston, MD
First National Bank and Trust Company | Asheboro, NC
Randolph Bank & Trust Company | Asheboro, NC
Mechanics and Farmers Bank | Durham, NC
Gateway Bank & Trust Company | Elizabeth City, NC
Macon Bank | Franklin, NC
Carolina Bank | Greensboro, NC
Hertford Savings Bank, SSB | Hertford, NC
The Little Bank | Kinston, NC
Industrial Federal Savings Bank | Lexington, NC
Lexington State Bank | Lexington, NC
First Savings and Loan Association | Mebane, NC
American Community Bank | Monroe, NC
Mount Gilead Savings and Loan Association | Mount Gilead, NC
State Employees' Credit Union | Raleigh, NC
Taylorsville Savings Bank, SSB | Taylorsville, NC
Anson Bank & Trust Company | Wadesboro, NC
Waccamaw Bank | Whiteville, NC
Cooperative Bank | Wilmington, NC
Home Federal Savings and Loan Association | Bamberg, SC
Bank of Greeleyville | Greeleyville, SC
GrandSouth Bank | Greenville, SC
Countybank | Greenwood, SC
Greer State Bank | Greer, SC
First National Bank of South Carolina | Holly Hill, SC
Kingstree Federal Savings & Loan Association | Kingstree, SC
The Bank of Clarendon | Manning, SC
Southcoast Community Bank | Mt. Pleasant, SC
Anderson Brothers Bank | Mullins, SC
Pickens Savings & Loan Association, F.A | Pickens, SC
Bank of Travelers Rest | Travelers Rest, SC
NAPUS | Alexandria, VA
The Blue Grass Valley Bank | Blue Grass, VA
The Bank of Southside Virginia | Carson, VA
Second Bank & Trust | Culpeper, VA
Apple Federal Credit Union | Fairfax, VA
Imperial Savings and Loan Association | Martinsville, VA
Navy Federal Credit Union | Merrifield, VA
Bank of the Commonwealth | Norfolk, VA
Lee Bank and Trust Company | Pennington Gap, VA
The Marathon Bank | Winchester, VA
Federal Home Loan Bank of Cincinnati—District 5
Town & Country Bank & Trust Company | Bardstown, KY
Wilson & Muir Bank and Trust Company | Bardstown, KY
Bank of Cadiz and Trust Company | Cadiz, KY
Bank of Columbia | Columbia, KY
The Harrison Deposit Bank and Trust Company | Cynthiana, KY
Kentucky National Bank | Elizabethtown, KY
Farmers Bank | Hardinsburg, KY
Hancock Bank and Trust Company | Hawesville, KY
Peoples Bank & Trust Company of Hazard | Hazard, KY
Heritage Bank | Hopkinsville, KY
Planters Bank, Inc. | Hopkinsville, KY
Bank of Jamestown | Jamestown, KY
THE BANK—Oldham County, Inc | LaGrange, KY
Leitchfield Deposit Bank and Trust Company | Leitchfield, KY
Central Bank & Trust Company, Inc | Lexington, KY
L&N Federal Credit Union | Louisville, KY
Farmers Bank & Trust of Marion | Marion, KY
Monticello Banking Company | Monticello, KY
South Central Bank of Daviess County, Inc | Owensboro, KY
The Salt Lick Deposit Bank | Owingsville, KY
Blue Grass Federal Savings and Loan Association | Paris, KY
First Commonwealth Bank of Prestonsburg, Inc | Prestonsburg, KY
Fort Knox National Bank | Radcliff, KY
Belpre Savings Bank | Belpre, OH
The Farmers Citizens Bank | Bucyrus, OH
Union Savings Bank | Cincinnati, OH
Eagle Savings Bank | Cincinnati, OH
Charter One Bank, N.A | Cleveland, OH
First Community Bank | Columbus, OH
Conneaut Savings Bank | Conneaut, OH
CF Bank | Fairlawn, OH
The Fort Jennings State Bank | Fort Jennings, OH
The Hamler State Bank | Hamler, OH
Morgan Bank, N.A | Hudson, OH
The Fahey Banking Company of Marion | Marion, OH
Citizens National Bank of McConnelsville | McConnelsville, OH
The American Savings Bank | Middletown, OH
First National Bank of New Holland | New Holland, OH
First National Bank | Orrville, OH
The Republic Banking Company | Republic, OH
Mutual Federal Savings Bank | Sidney, OH
The Peoples Savings and Loan Company | West Liberty, OH
The Union Banking Company | West Mansfield, OH
Farmers State Bank | West Salem, OH
The Wilmington Savings Bank | Wilmington, OH
Brighton Bank | Brighton, TN
Highland Federal Savings and Loan Association | Crossville, TN
Security Federal Bank | Elizabethton, TN
Cumberland Bank | Franklin, TN
The Lauderdale County Bank | Halls, TN
Carroll Bank & Trust | Huntingdon, TN
First National Bank | Manchester, TN
The Coffee County Bank | Manchester, TN
Memphis Area Teachers' Credit Union | Memphis, TN
Johnson County Bank | Mountain City, TN
Home Banking Company | Selmer, TN
Federal Home Loan Bank of Indianapolis—District 6
Bedford Federal Savings Bank | Bedford, IN
FNC Bank | Brookville, IN
Decatur Bank and Trust Company, NA | Decatur, IN
United Fidelity Bank | Evansville, IN
Fowler State Bank | Fowler, IN
First Federal Savings Bank | Huntington, IN
Campbell & Fetter Bank | Kendallville, IN
United Community Bank | Lawrenceburg, IN
River Valley Financial Bank | Madison, IN
MarkleBank | Markle, IN
First State Bank of Middlebury | Middlebury, IN
Citizens Financial Bank | Munster, IN
Your Community Bank | New Albany, IN
Ameriana Bank and Trust, SB | New Castle, IN
AmericanTrust FSB | Peru, IN
Spencer County Bank | Santa Claus, IN
Jackson County Bank | Seymour, IN
Shelby County Bank | Shelbyville, IN
Terre Haute Savings Bank | Terre Haute, IN
Frances Slocum Bank & Trust Company, N.A | Wabash, IN
Homestead Savings Bank | Albion, MI
Ann Arbor Commerce Bank | Ann Arbor, MI
Charlevoix State Bank | Charlevoix, MI
Dearborn Federal Savings Bank | Dearborn, MI
Option 1 Credit Union | East Lansing, MI
Firstbank-Lakeview | Lakeview, MI
NuUnion Credit Union | Lansing, MI
Capital National Bank | Lansing, MI
Independent Bank-South Michigan | Leslie, MI
State Savings Bank | Manistique, MI
Mason State Bank | Mason, MI
Community Federal Credit Union | Plymouth, MI
Team One Credit Union | Saginaw, MI
Sidney State Bank | Sidney, MI
Flagstar Bank, FSB | Troy, MI
LaSalle Bank Midwest National Association | Troy, MI
Research Federal Credit Union | Warren, MI
Firstbank-West Branch | West Branch, MI
Federal Home Loan Bank of Chicago—District 7
Oxford Bank and Trust | Addison, IL
Heartland Bank & Trust Company | Bloomington, IL
Peoples Bank of Kankakee County | Bourbonnais, IL
Bridgeview Bank and Trust | Bridgeview, IL
United Community Bank | Chatham, IL
Amalgamated Bank of Chicago | Chicago, IL
Community Bank of Lawndale | Chicago, IL
Austin Bank of Chicago | Chicago, IL
Foster Bank | Chicago, IL
Flower Bank, fsb | Chicago, IL
Burling Bank | Chicago, IL
First Savings Bank of Hegewisch | Chicago, IL
State Bank of Countryside | Countryside, IL
First Savings Bank of Danville | Danville, IL
Washington Savings Bank | Effingham, IL
Midland State Bank | Effingham, IL
First American Bank | Elk Grove Village, IL
Forest Park National Bank & Trust Company | Forest Park, IL
Union Savings Bank | Freeport, IL
Central Bank Illinois | Geneseo, IL
Bank of Gibson City | Gibson City, IL
Northside Community Bank | Gurnee, IL
Parkway Bank & Trust Company | Harwood Heights, IL
North Central Bank | Hennepin, IL
State Bank of Herscher | Herscher, IL
The Farmers State Bank and Trust Company | Jacksonville, IL
First FS&LA of Kewanee | Kewanee, IL
Logan County Bank | Lincoln, IL
Twin Oaks Savings Bank | Marseilles, IL
Citizens Community Bank | Mascoutah, IL
Middletown State Bank | Middleton, IL
Blackhawk State Bank | Milan, IL
First State Bank | Monticello, IL
BankPlus, fsb | Morton, IL
George Washington Savings Bank | Oak Lawn, IL
The First National Bank of Ogden | Ogden, IL
The First National Bank of Okawville | Okawville, IL
The Edgar County Bank & Trust Company | Paris, IL
First Federal Savings and Loan Association of Pekin | Pekin, IL
First National Bank in Pinckneyville | Pinckneyville, IL
State Street Bank & Trust Company | Quincy, IL
Mercantile Trust and Savings Bank | Quincy, IL
North County Savings Bank | Red Bud, IL
First Savanna Savings Bank | Savanna, IL
First State Bank of Shannon-Polo | Shannon, IL
Security Bank | Springfield, IL
Stillman BancCorp, N.A | Stillman Valley, IL
UnionBank | Treator, IL
The National Bank & Trust Company | Sycamore, IL
Alpha Community Bank | Toluca, IL
Citizens First State Bank of Walnut | Walnut, IL
The Hill Dodge Banking Company | Warsaw, IL
State Bank of Waterloo | Waterloo, IL
Cardunal Savings Bank, FSB | West Dundee, IL
American Bank and Trust Company | Davenport, IA
First American Credit Union | Beloit, WI
Jackson County Bank | Black River Falls, WI
State Bank of Cross Plains | Cross Plains, WI
Advantage Community Bank | Dorchester, WI
AM Community Credit Union | Kenosha, WI
Time Federal Savings Bank | Medford, WI
M&I Marshall & Ilsley Bank | Milwaukee, WI
Marine Bank | Pewaukee, WI
Tomahawk Community Bank SSB | Tomahawk, WI
Federal Home Loan Bank of
Des Moines—District 8
Peoples Trust & Savings Bank | Adel, IA
Security State Bank | Anamosa, IA
Farmers Trust and Savings Bank | Buffalo Center, IA
Linn Area Credit Union | Cedar Rapids, IA
United Security Savings Bank, F.S.B | Cedar Rapids, IA
Bank Iowa | Clarinda, IA
Clear Lake Bank and Trust Company | Clear Lake, IA
Gateway State Bank | Clinton, IA
C U.S. Bank | Cresco, IA
Denver Savings Bank | Denver, IA
DeWitt Bank & Trust Company | DeWitt, IA
Premier Bank | Dubuque, IA
Liberty Trust & Savings Bank | Durant, IA
Farmers Trust & Savings Bank | Earling, IA
Hardin County Savings Bank | Eldora, IA
Bank Plus | Estherville, IA
NorthStar Bank | Estherville, IA
Libertyville Savings Bank | Fairfield, IA
Fort Madison Bank & Trust Company | Fort Madison, IA
Security Savings Bank | Gowrie, IA
Midstates Bank | Harlan, IA
Hills Bank and Trust Company | Hills, IA
First State Bank | Ida Grove, IA
Peoples Savings Bank | Indianola, IA
Iowa Falls State Bank | Iowa Falls, IA
Kerndt Brothers Savings Bank | Lansing, IA
First State Bank | Lynnville, IA
First National Bank of Manning | Manning, IA
Valley Bank & Trust | Mapleton, IA
Maquoketa State Bank | Maquoketa, IA
Maynard Savings Bank | Maynard, IA
Union State Bank | Monona, IA
Mount Vernon Bank and Trust Company | Mount Vernon, IA
Wayland State Bank | Mt. Pleasant, IA
Community Bank | Muscatine, IA
Horizon Bank | Oskaloosa, IA
First National Bank Midwest | Oskaloosa, IA
Pella State Bank | Pella, IA
First State Bank | Riceville, IA
Peoples Bank | Rock Valley, IA
Union State Bank | Rockwell City, IA
Rolfe State Bank | Rolfe, IA
First Community Bank | Sidney, IA
St. Ansgar State Bank | St. Ansgar, IA
Victor State Bank | Victor, IA
Washington State Bank | Washington, IA
Citizens State Bank | Waukon, IA
West Iowa Bank | West Bend, IA
State Savings Bank | West Des Moines, IA
Fidelity Bank | West Des Moines, IA
GuideOne Mutual Insurance Company | West Des Moines, IA
Wilton Savings Bank | Wilton, IA
White Rock Bank | Cannon Falls, MN
Currie State Bank | Currie, MN
State Bank of Danvers | Danvers, MN
State Bank of Delano | Delano, MN
Voyager Bank | Eden Prairie, MN
First Security Bank-Evansville | Evansville, MN
1st United Bank | Faribault, MN
Border State Bank | Greenbush, MN
Citizens State Bank of Hayfield | Hayfield, MN
Farmers State Bank of Hoffman | Hoffman, MN
Fortress Bank Minnesota | Houston, MN
Security State Bank of Howard Lake | Howard Lake, MN
Key Community Bank | Inver Grove Heights, MN
First Security Bank—Lake Benton | Lake Benton, MN
Lake City Federal Bank | Lake City, MN
Lake Area Bank | Lindstrom, MN
Inter Savings Bank, fsb | Maple Grove, MN
First National Bank of Moose Lake | Moose Lake, MN
United Prairie Bank | Mountain Lake, MN
State Bank of New Prague | New Prague, MN
ProGrowth Bank | Nicollet, MN
Midwest Bank NA | Parkers Prairie, MN
The First National Bank of Pine City | Pine City, MN
Sterling State Bank | Rochester, MN
Premier Bank Rochester | Rochester, MN
Citizens State Bank of Roseau | Roseau, MN
Bremer Bank, N.A | St. Cloud, MN
St. James Federal Savings and Loan Association | St. James, MN
The Nicollett County Bank of Saint Peter | St. Peter, MN
Farmers State Bank of Trimont | Trimont, MN
The First National Bank of Walker | Walker, MN
Roundbank | Waseca, MN
Flagship Bank Winsted | Winsted, MN
First Independent Bank of Wood Lake | Wood Lake, MN
Citizens Bank of Amsterdam | Amsterdam, MO
Community State Bank of Missouri | Bowling Green, MO
Pony Express Bank | Braymer, MO
Citizens Union State Bank & Trust | Clinton, MO
First National Bank & Trust Company | Columbia, MO
Meramec Valley Bank | Ellisville, MO
New Era Bank | Fredericktown, MO
Bank Star One | Fulton, MO
Central Trust Bank | Jefferson City, MO
Macon-Atlanta State Bank | Macon, MO
Regional Missouri Bank | Marceline, MO
Nodaway Valley Bank | Maryville, MO
Independent Farmers Bank | Maysville, MO
Heritage State Bank | Nevada, MO
Southwest Community Bank | Ozark, MO
Palmyra State Bank | Palmyra, MO
Farley State Bank | Parkville, MO
Perry State Bank | Perry, MO
Citizens Community Bank | Pilot Grove, MO
Pulaski Bank | Saint Louis, MO
Bank of Salem | Salem, MO
The Merchants & Farmers Bank of Salisbury | Salisbury, MO
Excel Bank | Sedalia, MO
The Signature Bank | Springfield, MO
Empire Bank | Springfield, MO
Liberty Bank | Springfield, MO
Bank Star of the Bootheel | Steele, MO
The Tipton Latham Bank, N.A | Tipton, MO
Bank of Washington | Washington, MO
West Plains Savings & Loan | West Plains, MO
The First and Farmers Bank | Portland, ND
First International Bank & Trust | Watford City, ND
Federal Home Loan Bank of Dallas—District 9
SOUTHBank, A Federal Savings Bank | Huntsville, AL
Community Bank | Cabot, AR
Hot Springs Bank & Trust Company | Clarksville, AR
Bank of Eureka Springs | Eureka Springs, AR
First National Bank of Fort Smith | Fort Smith, AR
First National Bank | Hot Springs, AR
Bank of Lake Village | Lake Village, AR
Bank of the Ozarks | Little Rock, AR
First State Bank | Lonoke, AR
Arvest Bank | Lowell, AR
Union Bank of Mena | Mena, AR
Evolve Bank & Trust | Parkin, AR
Bank of Salem | Salem, AR
Simmons First Bank of Searcy | Searcy, AR
First Security Bank of Searcy | Searcy, AR
Fidelity Bank | Baton Rouge, LA
State Investors Bank | Metairie, LA
Globe Homestead Savings Bank | Metairie, LA
Home Federal Savings and Loan Association | Shreveport, LA
Citizens B&T Company of Vivian LA, Inc | Vivian, LA
First Southern Bank | Columbia, MS
First Delta Federal Credit Union | Marks, MS
Pioneer Bank | Roswell, NM
First National Bank of Santa Fe | Santa Fe, NM
International Bank of Commerce—Brownsville | Brownsville, TX
American Bank, N.A | Corpus Christi, TX
Guaranty Bank | Dallas, TX
State Bank and Trust Company | Dallas, TX
The Bank & Trust, S.S.B | Del Rio, TX
Government Employees Credit Union | El Paso, TX
Bank of the West | El Paso, TX
OmniBank, N.A | Houston, TX
New Era Life Insurance Company | Houston, TX
Amegy Bank of Texas, NA | Houston, TX
The First National Bank of Hughes Springs | Hughes Springs, TX
International Bank of Commerce | Laredo, TX
Liberty Bank | North Richland Hills, TX
Interstate Bank, ssb | Perryton, TX
Cypress Bank FSB | Pittsburg, TX
Benchmark Bank | Plano, TX
ViewPoint Bank | Plano, TX
First National Bank in Quanah | Quanah, TX
Peoples State Bank | Rocksprings, TX
Crockett National Bank | San Angelo, TX
Frost National Bank | San Antonio, TX
Citizens Bank | Slaton, TX
First Community Bank The Woodlands | Tomball, TX
Southside Bank | Tyler, TX
First Victoria National Bank | Victoria, TX
International Bank of Commerce-Zapata | Zapata, TX
Federal Home Loan Bank of Topeka—District 10
FirstBank of Avon | Avon, CO
Canon National Bank | Canon City, CO
Ent Federal Credit Union | Colorado Springs, CO
The Citizens State Bank of Cortez | Cortez, CO
Guaranty Bank and Trust Company | Denver, CO
FirstBank of Vail | Vail, CO
Community State Bank | Coffeyville, KS
The Liberty Savings Association, FSA | Fort Scott, KS
The City State Bank | Fort Scott, KS
First National Bank | Independence, KS
First Federal S&L Independence | Independence, KS
MidAmerican Bank & Trust Company | Leavenworth, KS
Kansas State Bank of Manhattan | Manhattan, KS
Stockgrowers State Bank | Maple Hill, KS
Citizens State Bank of Marysville | Marysville, KS
Montezuma State Bank | Montezuma, KS
Kansas State Bank | Overbrook, KS
Solutions Bank | Overland Park, KS
1st Financial Bank | Overland Park, KS
First National Bank in Pratt | Pratt, KS
Rose Hill Bank | Rose Hill, KS
The Bennington State Bank | Salina, KS
Security State Bank | Scott City, KS
First National Bank of Scott City | Scott City, KS
Centera Bank | Sublette, KS
First Federal Savings & Loan Association of WaKeeney | WaKeeney, KS
First National Bank of Wamego | Wamego, KS
Fidelity Bank | Wichita, KS
First National Bank and Trust | Fullerton, NE
Geneva State Bank | Geneva, NE
Equitable Bank | Grand Island, NE
Home FS&LA of Grand Island, Nebraska | Grand Island, NE
Harvard State Bank | Harvard, NE
Hershey State Bank | Hershey, NE
Platte Valley State Bank and Trust Company, Inc | Kearney, NE
Nebraska National Bank | Kearney, NE
Bank of Keystone | Keystone, NE
Home FS&LA of Nebrasksa | Lexington, NE
Lincoln Federal Savings Bank | Lincoln, NE
Security Federal Savings | Lincoln, NE
Sherman County Bank | Loup City, NE
First National Bank Northeast | Lyons, NE
The Bank of Madison | Madison, NE
Madison County Bank | Madison, NE
BankFirst | Norfolk, NE
First National Bank | North Platte, NE
Nebraskaland National Bank | North Platte, NE
Pender State Bank | Pender, NE
Midwest Bank, N.A | Pierce, NE
Town & Country Bank | Ravenna, NE
Sidney Federal Savings & Loan Association | Sidney, NE
Dakota County State Bank | South Sioux City, NE
Springfield State Bank | Springfield, NE
Bank of St. Edward | St. Edward, NE
Tecumseh Federal Bank | Tecumseh, NE
First National Bank of Utica | Utica, NE
Farmers State Bank | Wallace, NE
Saline State Bank | Wilber, NE
Citizens National Bank | Wisner, NE
66 Federal Credit Union | Bartlesville, OK
Bank of Cordell | Cordell, OK
Bank of Hydro | Hydro, OK
Armstrong Bank | Muskogee, OK
The Citizens State Bank | Okemah, OK
First Enterprise Bank | Oklahoma City, OK
Union Bank, n.a | Oklahoma City, OK
The First National Bank | Texhoma, OK
Grand Bank | Tulsa, OK
Community Bank & Trust Company | Tulsa, OK
Energy One Federal Credit Union | Tulsa, OK
First Bank & Trust Company | Wagoner, OK
Canadian State Bank | Yukon, OK
Federal Home Loan Bank of San Francisco—District 11
BankUSA | Phoenix, AZ
Fremont Investment & Loan | Anaheim, CA
Vista Federal Credit Union | Burbank, CA
Eastern International Bank | Los Angeles, CA
Chevron Federal Credit Union | Oakland, CA
Wescom Central Credit Union | Pasadena, CA
La Jolla Bank, F.S.B | Rancho Santa Fe, CA
Redding Bank of Commerce | Redding, CA
San Diego County Credit Union | San Diego, CA
California Bank & Trust | San Diego, CA
United Commercial Bank | San Francisco, CA
Luther Burbank Savings | Santa Rosa, CA
Community Banks of Northern California | Tracy, CA
Federal Home Loan Bank of Seattle—District 12
First Bank | Ketchikan, AK
Territorial Savings Bank | Honolulu, HI
Central Pacific Bank | Honolulu HI
Home Federal Bank | Nampa, ID
Valley Bank of Helena | Helena, MT
American Bank | Livingston, MT
Northwest Community Credit Union | Eugene, OR
LibertyBank | Eugene, OR
Chetco Federal Credit Union | Harbor, OR
West Coast Bank | Lake Oswego, OR
PremierWest Bank | Medford, OR
SummitOne Credit Union | Ogden, UT
Centennial Bank | Ogden, UT
Zions Bank | Salt Lake City, UT
Mountain America Federal Credit Union | West Jordan, UT
Kitsap Community Federal Credit Union | Bremerton, WA
Summit Bank | Burlington, WA
VentureBank | Lacey, WA
Spokane Teachers Credit Union | Liberty Lake, WA
Cowlitz Bank | Longview, WA
Heritage Bank | Olympia, WA
Viking Community Bank | Seattle, WA
Wheatland Bank | Spokane, WA
TAPCO Credit Union | Tacoma, WA
Sound Banking Company | Tacoma, WA
Banner Bank | Walla Walla, WA
Security First Bank | Cheyenne, WY
Cowboy State Bank | Ranchester, WY
Bank of Wyoming | Thermopolis, WY

II. Public Comments

To encourage the submission of public comments on the community support performance of Bank members, on or before April 27, 2007, each Bank will notify its Advisory Council and nonprofit housing developers, community groups, and other interested parties in its district of the members selected for community support review in the 2006-07 fifth quarter review cycle. 12 CFR 944.2(b)(2)(ii). In reviewing a member for community support compliance, the Finance Board will consider any public comments it has received concerning the member. 12 CFR 944.2(d). To ensure consideration by the Finance Board, comments concerning the community support performance of members selected for the 2006-07 fifth quarter review cycle must be delivered to the Finance Board on or before the May 25, 2007 deadline for submission of Community Support Statements.

Neil R. Crowley,
Acting General Counsel.

[FR Doc. E7-6142 Filed 4-12-07; 8:45 am]

BILLING CODE 6725-01-P